DEPARTMENT OF THE INTERIOR

National Park Service

[NPS-AKR-GLBA-22231; PPWOBSADA0, PPMPSAS1Y.Y00000 (177)]

Information Collection Request Sent to the Office of Management and Budget (OMB) for Approval; Glacier Bay National Park and Preserve Bear Sighting and Encounter Reports

AGENCY: National Park Service, Interior.

ACTION: Notice; request for comments.

SUMMARY: We (National Park Service, NPS) have sent an Information Collection Request (ICR) to OMB for review and approval. We summarize the ICR below and describe the nature of the collection and the estimated burden and cost. We may not conduct or sponsor and a person is not required to respond to a collection of information unless it displays a currently valid OMB control number. However, under OMB regulations, we may continue to conduct or sponsor this information collection while it is pending at OMB.

DATES: You must submit comments on or before November 25, 2016.

ADDRESSES: Send your comments and suggestions on this information collection to the Desk Officer for the Department of the Interior at OMB-OIRA at (202) 395-5806 (fax) or OIRA_Submission@omb.eop.gov (email). Please provide a copy of your comments to Madonna L. Baucum, Information Collection Clearance Officer, National Park Service, 12201 Sunrise Valley Drive, Mail Stop 242, Reston, VA 20192; or madonna_baucum@nps.gov (email). Please include “1024-GLBA” in the subject line of your comments. You may review the ICR online at http://www.reginfo.gov. Follow the instructions to review Department of the Interior collections under review by OMB.

FOR FURTHER INFORMATION CONTACT: To request additional information about this ICR, contact Margaret Hazen, Supervisory Park Ranger, Glacier Bay National Park and Preserve at Margaret_Hazen@nps.gov (email) or at (907) 697-2608 (telephone).

SUPPLEMENTARY INFORMATION:

I. Abstract

The National Park Service Organic Act, 54 U.S.C. 100101(a) et seq.), requires that the NPS preserve national parks for the enjoyment, education, and inspiration of this and future generations. Permit requirements and restrictions for recreational activities in the backcountry are governed in accordance with the regulations found at Title 36, Code of Federal Regulations, Sections 1.5, 1.6, and 2.10 (36 CFR 1.5, 1.6, 2.10, and 13.116). In order to monitor resources and wildlife in the Glacier Bay National Park and Preserve (GLBA) and to enhance the safety of future visitors, the park monitors all sightings and interactions by visitors with bears. The bear sighting and encounter reporting forms are an extension of our statutory authority and responsibility to protect the park areas we administer and to manage the public use thereof. NPS regulations codified in 36 CFR 1-7, 12 and 13, are designated to implement statutory mandates that provide for resource protection and public enjoyment.

Bear sighting data provides the park with important data used to determine bear movements, habitat use, and species distribution. This information can be used in backcountry management and planning, field research planning, and educational outreach for visitors. Bear-human interaction data is vital to understand how bears respond to people, detecting changes in bear behavior, and identifying potential areas of high bear-human conflict. Obtaining immediate information on bear-human conflicts allows managers to respond promptly to mitigate further conflicts. Proactive mitigation includes notifying other backcountry users, issuing advisories or recommendations, or issuing closures to prevent further conflicts and maintain public safety. Additionally, managers may respond to reports of bear-human conflict with bear management techniques such as hazing or aversive conditioning. Obtaining current accurate information on bear sightings and interactions is essential for public safety and to effectively manage bears and people to minimize conflicts. Summary statistics (without personal information) may be generated to examine long-term trends in types and locations of bear-human interactions. Observations and interactions by visitors are recorded via the two forms: NPS Form 10-405 and NPS Form 10-406.

The NPS requires the submission of NPS Form 10-405 upon exiting the park backcountry in order to collect information regarding bear sightings within GLBA. The collection and timeliness of the data collection is critical for the NPS' ability to enhance the safety of future visitors and to protect the bear population at the park. Information collected via NPS Form 10-405 includes:

• Group name;

• Take-out date;

• Whether visitor encountered dirty campsites left by previous users or observe unsafe or inappropriate behavior by other groups; and

• Detailed information for each sighting documented on the form, to include:

○ Date/time;

○ Species type

○ Total number of bears seen together (for each sighting);

○ Bear unit type;

○ Estimation of distance between visitor and bear(s);

○ Whether the bear was aware of the group;

○ Bear reaction to group;

○ Activity of group;

○ Number of observers; and

○ Location description/campsite name/GPS position/other comments.

Submission of a completed NPS Form 10-406 is required when a bear enters camp, approaches the group, damages gear, obtains food, and/or acts in an aggressive or threatening manner towards the group. The collection and timeliness of data concerning bear-human contact is critical for the NPS' ability to enhance the safety of future visitors and to protect the bear population at the park. Information collected via NPS Form 10-406 includes:

• Name and phone number of the primary person involved in the interaction;

• Group type: Park visitor, concession employee, contractor, researcher, NPS employee, or other;

• Number of people who encountered the bear;

• Corresponding sighting number on NPS Form 10-405; Location 1-28 (Backcountry vs. Developed Area A and B);

• Types of vegetation in area of encounter;

• The bear's activity when it was first observed;

• The group's activity prior to seeing the bear;

• The bear's initial and subsequent reaction to the group;

• Group's response to bear's reaction;

• Group's distance to the bear;

• Whether food was present, and if so, if it was eaten by the bear;

• Whether property was damaged;

• Detailed description of the interaction;

• Detailed description of the bear, to include color, markings, scars, tags, etc.;

• Date, time, and duration of encounter;

• Exact location of encounter documented on map provided by GLBA, to include the latitude/longitude;

• Where did the individual learn about how to behave while in bear country; and

• Whether visitor encountered dirty campsites left by previous users or observe unsafe or inappropriate behavior by other groups

II. Data

OMB Control Number: 1024-New.

Title: Glacier Bay National Park and Preserve Bear Sighting and Encounter Reports.

Service Form Number(s): NPS Forms 10-405, “Tatshenshini—Alsek River Bear Report” and 10-406, “Bear Information Management Report”.

Type of Request: Existing collection in use without an OMB Control Number.

Description of Respondents: Backcountry and frontcountry visitors to Glacier Bay National Park and Preserve.

Respondent's Obligation: Mandatory.

Frequency of Collection: On occasion.

Estimated Annual Nonhour Burden Cost: None.

Activity | Estimated annual number of responses | Estimated completion time per response (minutes) | Estimated total annual burden hours
NPS Form 10-405, “Tatshenshini—Alsek River Bear Report Form 1” | 40 | 5 | 3
NPS Form 10-406, “Tatshenshini—Alsek River Bear Information Management (BIM) Report Form 2” | 10 | 5 | 1
Totals | 50 |  | 4

III. Comments

On June 26, 2015, we published in the Federal Register (80 FR 36844) a Notice of our intent to request that OMB approve the collection of information associated with the collection of information via NPS Forms 10-405, “Tatshenshini—Alsek River Bear Report” and 10-406, “Bear Information Management Report”. We did not receive any comments in response to that notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: October 20, 2016.
Madonna L. Baucum,
Information Collection Clearance Officer, National Park Service.

[FR Doc. 2016-25744 Filed 10-24-16; 8:45 am]

BILLING CODE 4310-EH-P